DEPARTMENT OF HEALTH AND HUMAN SERVICES

Solicitation of Nominations for Appointment to the Presidential Advisory Council on Combating Antibiotic-Resistant Bacteria

AGENCY: Office of the Assistant Secretary for Health, Office of the Secretary, Department of Health and Human Services.

ACTION: Notice.

SUMMARY: The U.S. Department of Health and Human Services (HHS) is soliciting nominations of individuals who are interested in being considered a voting member or non-voting liaison member for appointment to the Presidential Advisory Council on Combating Antibiotic-Resistant Bacteria (Advisory Council). Nominations from qualified individuals who wish to be considered for appointment to either of these member categories of the Advisory Council are currently being accepted.

DATES: Nominations must be received no later than 12:00 a.m. ET on September 19th, 2022.

ADDRESSES: Information on how to submit a nomination is on the Advisory Council website, https://www.hhs.gov/ash/advisory-committees/paccarb/index.html.

FOR FURTHER INFORMATION CONTACT: Jomana Musmar, MS, Ph.D., Designated Federal Officer, Presidential Advisory Council on Combating Antibiotic-Resistant Bacteria, Office of the Assistant Secretary for Health, U.S. Department of Health and Human Services, Room 715H, Hubert H. Humphrey Building, 200 Independence Avenue SW, Washington, DC 20201. Phone: (202) 746-1512; email: CARB@hhs.gov. The Advisory Council charter may be accessed online at https://www.hhs.gov/ash/advisory-committees/paccarb/about-paccarb/charter/index.html. The charter includes detailed information about the Advisory Council's purpose, function, and structure.

SUPPLEMENTARY INFORMATION: The Presidential Advisory Council on Combating Antibiotic-Resistant Bacteria (Advisory Council), established by Executive Order 13676, is continued by Section 505 of Public Law 116-22, the Pandemic and All-Hazards Preparedness and Advancing Innovation Act of 2019 (PAHPAIA). Activities and duties of the Advisory Council are governed by the provisions of the Federal Advisory Committee Act (FACA), Public Law 92-463, as amended (5 U.S.C. app.), which sets forth standards for the formation and use of federal advisory committees.

The Advisory Council shall provide information and recommendations to the Secretary of Health and Human Services (Secretary) regarding programs and policies intended to reduce or combat antibiotic-resistant bacteria that may present a public health threat and improve capabilities to prevent, diagnose, mitigate, or treat such resistance. The Advisory Council shall function solely for advisory purposes.

Such advice, information, and recommendations may be related to improving: the effectiveness of antibiotics; research and advance research on, and the development of, improved and innovative methods for combating or reducing antibiotic resistance, including new treatments, rapid point-of-care diagnostics, alternatives to antibiotics, including alternatives to animal antibiotics, and antimicrobial stewardship activities; surveillance of antibiotic-resistant bacterial infections, including publicly available and up-to-date information on resistance to antibiotics; education for health care providers and the public with respect to up-to-date information on antibiotic resistance and ways to reduce or combat such resistance to antibiotics related to humans and animals; methods to prevent or reduce the transmission of antibiotic-resistant bacterial infections; including stewardship programs; and coordination with respect to international efforts in order to inform and advance the United States' capabilities to combat antibiotic resistance.

The Advisory Council is authorized to consist of at least 30 members, including the voting and non-voting members and the Chair and Vice Chair. The current composition of the Advisory Council consists of 15 voting members, including the Chair and Vice Chair, eight non-voting liaison representative members, and 12 non-voting ex-officio members.

This announcement is to solicit nominations to fill 16 positions that are scheduled to be vacated during the 2023 calendar year, nine of which are in the voting member category while the remaining seven are in the non-voting liaison member category. Newly appointed voting members are appointed to serve four year terms, and non-voting liaison members are appointed to serve for two year terms.

The nine voting members sought for this solicitation will be selected from individuals who are engaged in: research on, or implementation of, interventions regarding efforts to preserve the effectiveness of antibiotics by optimizing their use; advancing research to develop improved methods for combating antibiotic resistance and conducting antibiotic stewardship; strengthening surveillance of antibiotic-resistant bacterial infections; preventing the transmission of antibiotic-resistant bacterial infections; advancing the development of rapid point-of-care and agricultural diagnostics; furthering research on new treatments for bacterial infections; developing alternatives to antibiotics for agricultural purposes; maximizing the dissemination of up-to-date information on the appropriate and proper use of antibiotics to the general public and human and animal health care providers; and improving international coordination of efforts to combat antibiotic resistance.

The voting members will represent balanced points of view from human biomedical, public health, One Health, global antimicrobial resistance, environmental microbiology, animal agriculture (e.g., poultry, cattle, swine, aquaculture), and crop agricultural fields. The voting members may be physicians (e.g., infectious disease specialists), veterinarians (e.g., companion animal, food-animal), crop scientists, epidemiologists, microbiologists, or other health care professionals (e.g., nurses, pharmacists, others); individuals who have expertise and experience as consumer or patient advocates concerned with antibiotic resistance; individuals in the fields of agriculture and pharmaceuticals; and/or they also may be from state or local health agencies or public health organizations. The voting members will be appointed by the Secretary. All voting members will be classified as special government employees (SGEs).

The seven non-voting liaison representatives are selected from organizations and/or interest groups that are involved in the advocacy, education, development, testing, licensing, production, procurement, distribution, and/or use of antibiotics and/or antibiotic research. Non-voting liaison representative members shall possess knowledge, skills, experience, and expertise necessary to inform the Advisory Council in generating intelligent recommendations with respect to the issues mandated by PAHPAIA. Individuals from the following sample sectors are being sought to serve as non-voting liaison representatives: (1) professional organizations or associations representing providers, professionals, or specialists (e.g., long-term care, outpatient) for human and/or animal health involved in infection control and prevention, antimicrobial stewardship, or antimicrobial resistance and use; this can include but is not limited to physicians, nurses, pharmacists, microbiologists, veterinarians, or scientists; (2) public health, environmental health, and/or animal health organizations or associations (state/territorial, county, or local) representing laboratories, health officials, epidemiologists, agricultural state departments, hospitals, or environmental associations; (3) other organizations representing patients and consumer advocates, hospitals, pharmaceutical industry, global health, food producers and retailers, or other commodity groups.

Individuals who are appointed to serve as voting and non-voting liaison members may be allowed to receive per diem and reimbursement for any applicable expenses for travel that is performed to attend meetings of the Advisory Council as authorized by 5 U.S.C. 5703, for persons employed intermittently in the Government service. The Advisory Council meets, at a minimum, two times per year depending on the availability of funds. Meetings are open to the public, except as determined otherwise by the Secretary, or other official to whom the authority has been delegated, in accordance with guidelines under the Sunshine Act, 5 U.S.C. 552b(c).

Every effort will be made to ensure that the membership of federal advisory committees is diverse, equitable, and fairly balanced in terms of the expertise represented. Detailed information on what is required in a nomination package and how to submit one is on the Advisory Council website, https://www.hhs.gov/ash/advisory-committees/paccarb/index.html.

B. Kaye Hayes,
Deputy Assistant Secretary for Infectious Disease, Director, Office of Infectious Disease and HIV/AIDS Policy (OIDP), Executive Director, Presidential Advisory Council on HIV/AIDS (PACHA).

[FR Doc. 2022-16346 Filed 7-29-22; 8:45 am]

BILLING CODE 4150-44-P